DEPARTMENT OF TRANSPORTATION

Pipeline and Hazardous Materials Safety Administration

49 CFR Part 192

[Docket No. PHMSA-2025-0117; Amdt. No. 192-155]

RIN 2137-AF80

Pipeline Safety: Clarifying Recordkeeping Requirements for Testing in MAOP Reconfirmation Regulation

AGENCY: Pipeline and Hazardous Materials Safety Administration (PHMSA), Department of Transportation (DOT).

ACTION: Final rule; technical correction.

SUMMARY: PHMSA is clarifying that certain recently adopted recordkeeping requirements for pressure testing do not apply retroactively when determining the applicability of the requirements for reconfirming the maximum allowable operating pressure of certain gas transmission lines.

DATES: Effective on October 9, 2025.

FOR FURTHER INFORMATION CONTACT: Sayler Palabrica, Transportation Specialist, 1200 New Jersey Avenue SE, Washington, DC 20590, 202-744-0825, sayler.palabrica@dot.gov.

SUPPLEMENTARY INFORMATION:

I. General Discussion

PHMSA is clarifying that certain recently adopted recordkeeping requirements in 49 Code of Federal Regulations (CFR) 192.517(a) do not apply retroactively to pressure testing predating Federal Pipeline Safety Regulations (PSR, 49 CFR parts 190-199) when determining whether an operator is required to reconfirm the maximum allowable operating pressure (MAOP) of a gas transmission line under 49 CFR 192.624(a)(1) (84 FR 52180 (Oct. 1, 2019), 85 FR 40132 (Jul. 6, 2020)). PHMSA wrongly suggested the contrary in an October 2022 letter of interpretation that PHMSA recently withdrew for further consideration (PI-22-0014 (Oct. 5, 2022). PHMSA is now confirming that its earlier interpretation provided an erroneous reading of the applicable regulations in its letter of interpretation. To provide owners and operators of gas transmission lines with regulatory certainty, and to correct its earlier error, PHMSA is clarifying the language in § 192.624(a)(1) to address its applicability to testing conducted prior to the adoption of the PSRs in the early 1970s (35 FR 13248 (Aug. 19, 1970).

PHMSA's October 2022 letter of interpretation omitted consideration of statutory and regulatory prohibitions on application of subsequently adopted requirements to historical pressure testing. Both PHMSA's statutory non-retroactivity provision at 49 U.S.C. 60104(b) and the regulatory provision at § 192.13(a) delineating the general applicability of part 192 make clear that subsequently adopted initial testing standards do not apply to gas pipeline facilities in existence prior the adoption of the PSRs. The recordkeeping requirements in § 192.517 are part of the initial testing standards for gas pipeline facilities in subpart J of part 192. As such, those requirements cannot be applied retroactively to pressure tests conducted prior to the original adoption of the part 192 regulations without violating the retroactivity prohibition in 49 U.S.C. 60104(b) and limitations in § 192.13(a).

Nothing in the text of § 192.624(a)(1), which was introduced in the 2019 Final Rule, overrides these longstanding and well-established legal principles. Section 192.624(a)(1) simply states, in relevant part, that MAOP reconfirmation is required if “[r]ecords necessary to establish the MAOP in accordance with § 192.619(a)(2), including records required by § 192.517(a), are not traceable, verifiable, and complete[.]” Section 192.619(a)(2), the regulation referenced in § 192.624(a)(1), makes clear that operators can use tests conducted prior to the original adoption of the part 192 regulations to establish MAOP, see Table 1 to Paragraph (a)(2)(ii). As previously discussed, the recordkeeping requirements in subpart J did not exist when operators conducted those tests.

Retroactive application of the recordkeeping requirements in § 192.517(a) to testing conducted prior to the adoption of part 192 was not required to establish the MAOP of a gas transmission line under § 192.619(a)(2) prior to the October 2022 letter of interpretation, nor does an operator need to have such records to satisfy the “traceable, verifiable, and complete” standard in § 192.624(a)(1). Indeed, the contrary determination taken in the October 2022 letter violated the non-retroactivity provision in 49 U.S.C. 60104(b) and the general limitation on the applicability of part 192 in § 192.13(a), and would impose significant costs on the gas transmission line industry by invalidating all pre-part 192 pressure tests not satisfying subsequently adopted recordkeeping requirements in 49 CFR 192.517(a).

For these reasons, PHMSA is amending § 192.624(a)(1) to clarify that for pressure tests performed prior to the adoption of the PSR on August 19, 1970, an operator is not expected to have each of the specific information listed in § 192.517(a) for those testing records to be considered traceable, verifiable, and complete. PHMSA intends to provide additional guidance in addressing the records needed to satisfy the traceable, verifiable, and complete standard for historical, pre-PSR pressure testing in the near future.

II. Regulatory Analysis and Notices

A. Legal Authority

This technical correction is published under the authority of the Secretary of Transportation set forth in the Federal Pipeline Safety Laws (49 U.S.C. 60101 et seq.) and delegated to the PHMSA Administrator pursuant to 49 CFR 1.97. PHMSA has good cause under 5 U.S.C. 553(b)(B) to issue this final rule without prior notice and comment because such notice and comment are unnecessary. The amendment to § 192.624(a)(1) merely clarifies within that provision the application of the statutory retroactivity prohibition at 49 U.S.C. 60102(b) and the general limitation on the applicability of part 192 at § 192.13(a). Making that clarification is consistent with PHMSA's enabling statute and implementing regulations and will reduce compliance burdens for affected entities (which are burdens generally passed on to the public in the form of higher costs) in a manner that promotes the public interest.

B. Executive Order 12866; Regulatory Planning and Review

Executive Order (E.O.) 12866 (“Regulatory Planning and Review”; (58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This technical correction is a not significant regulatory action pursuant to E.O. 12866; it also has not designated this rule as a “major rule” as defined by the Congressional Review Act (5 U.S.C. 801 et seq.).

PHMSA has complied with the procedural and analytical requirements in E.O. 12866 as implemented by DOT Order 2100.6B. In so doing, PHMSA has determined that this technical correction will result in cost savings by reducing regulatory burdens and regulatory uncertainty for pipeline facility operators by clarifying the applicability of the MAOP reconfirmation requirements in § 192.624(a)(1) to pressure tests conducted prior to the adoption of part 192. PHMSA expects those cost savings will also result in reduced costs for the public to whom pipeline operators generally transfer a portion of their compliance costs.

C. Executive Orders 14192 and 14219

This final rule will be a deregulatory action pursuant to E.O. 14192 (“Unleashing Prosperity Through Deregulation”; 90 FR 9065 (Feb. 6, 2025)). PHMSA estimates that the total costs of the rule on the regulated community will be less than zero. Nor does this rule implicate any of the factors identified in section 2(a) of E.O. 14219 (“Ensuring Lawful Governance and Implementing the President's `Department of Government Efficiency' Deregulatory Initiative”) indicative that a regulation is “unlawful . . . [or] that undermine[s] the national interest” (90 FR 10583 (Feb. 25, 2025)).

D. Energy-Related Executive Orders 13211, 14154, and 14156

The President has declared in E.O. 14156 (“Declaring a National Energy Emergency”; 90 FR 8353 (Jan. 29, 2025)) a national emergency to address America's inadequate energy development production, transportation, refining, and generation capacity. Similarly, E.O. 14154 (“Unleashing American Energy”; 90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this technical correction is consistent with each of E.O. 14156 and E.O. 14154. The technical correction will clarify the applicability of the MAOP reconfirmation requirements in § 192.624(a)(1) to pressure tests conducted prior to the adoption of part 192. PHMSA therefore expects the regulatory amendments in this technical correction will in turn increase national pipeline transportation capacity and improve pipeline operators' ability to provide abundant, reliable, affordable natural gas in response to residential, commercial, and industrial demand.

However, this technical correction is not a “significant energy action” under E.O. 13211 (“Actions Concerning Regulations That Significantly Affect Energy Supply, Distribution, or Use”; 66 FR 28355 (May 22, 2001)), which requires Federal agencies to prepare a Statement of Energy Effects for any “significant energy action.” Because this technical correction is not a significant action under E.O. 12866, it will not have a significant adverse effect on supply, distribution, or energy use, as further discussed in the RIA; OIRA has therefore not designated this technical correction as a significant energy action.

E. Executive Order 13132: Federalism

PHMSA analyzed this technical correction in accordance with the principles and criteria contained in E.O. 13132 (“Federalism”; 64 FR 43255 (Aug. 10, 1999)) and the Presidential Memorandum (“Preemption”) published in the Federal Register on May 22, 2009 (74 FR 24693 (May 22, 2009)). E.O. 13132 requires agencies to assure meaningful and timely input by State and local officials in the development of regulatory policies that may have “substantial direct effects on the States, on the relationship between the National Government and the States, or on the distribution of power and responsibilities among the various levels of government.”

While the technical correction may operate to preempt some State requirements, it would not impose any regulation that has substantial direct effects on the States, the relationship between the National Government and the States, or the distribution of power and responsibilities among the various levels of government. Section 60104(c) of Federal Pipeline Safety Laws prohibits certain State safety regulation of interstate pipelines. Under Federal Pipeline Safety Laws, States that have submitted a current certification under section 60105(a) can augment Federal pipeline safety requirements for intrastate pipelines regulated by PHMSA but may not approve safety requirements less stringent than those required by Federal law. A State may also regulate an intrastate pipeline facility that PHMSA does not regulate. The preemptive effect of the regulatory amendments in this technical correction is limited to the minimum level necessary to achieve the objectives of the Federal Pipeline Safety Laws. Therefore, the consultation and funding requirements of E.O. 13132 do not apply.

F. Regulatory Flexibility Act

The Regulatory Flexibility Act (5 U.S.C. 601 et seq.) requires Federal agencies to conduct a Final Regulatory Flexibility Analysis (FRFA) for a technical correction subject to notice-and-comment rulemaking under the APA unless the agency head certifies that the proposed rule in the rulemaking will not have a significant economic impact on a substantial number of small entities. E.O. 13272 (“Proper Consideration of Small Entities in Agency Rulemaking”; 64 FR 53461 (Aug. 16, 2002)) obliges agencies to establish procedures promoting compliance with the Regulatory Flexibility Act. DOT posts its implementing guidance on a dedicated web page. This technical correction was developed in accordance with E.O. 13272 and DOT implementing guidance to ensure compliance with the Regulatory Flexibility Act and that the potential impacts of the rulemaking on small entities has been properly considered. PHMSA expects that this final rule will relieve a regulatory burden and therefore certifies the technical correction will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This technical correction does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this technical correction in accordance with NEPA and issues this Finding of No Significant Impact (FONSI), as it has determined that the rulemaking—which corrects an erroneous interpretation of its regulations—will not adversely affect safety and therefore will not significantly affect the quality of the human and natural environment.

I. Executive Order 13175

PHMSA analyzed this technical correction according to the principles and criteria in E.O. 13175 (“Consultation and Coordination with Indian Tribal Governments”; 65 FR 67249 (Nov. 9, 2000)) and DOT Order 5301.1A (“Department of Transportation Tribal Consultation Polices and Procedures”). E.O. 13175 requires agencies to assure meaningful and timely input from Tribal government representatives in the development of rules that significantly or uniquely affect Tribal communities by imposing “substantial direct compliance costs” or “substantial direct effects” on such communities or the relationship or distribution of power between the Federal government and Tribes.

PHMSA assessed the impact of the technical correction and determined that it will not significantly or uniquely affect Tribal communities or Indian Tribal governments. The rulemaking's regulatory amendments have a broad, national scope; therefore, this technical correction will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create, amend, or rescind any existing information collections.

K. Executive Order 13609 and International Trade Analysis

E.O. 13609 (“Promoting International Regulatory Cooperation”; 77 FR 26413 (May 4, 2012) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the technical correction and has determined that its regulatory amendments will not cause unnecessary obstacles to foreign trade.

L. Cybersecurity and Executive Order 14028

E.O. 14028 (“Improving the Nation's Cybersecurity”; 86 FR 26633 (May 17, 2021)) directed the Federal government to improve its efforts to identify, deter, and respond to “persistent and increasingly sophisticated malicious cyber campaigns.” PHMSA has considered the effects of the technical correction and has determined that its regulatory amendments will not materially affect the cybersecurity risk profile for pipeline facilities.

List of Subjects in 49 CFR Part 192

Natural gas, Pipeline safety.

In consideration of the foregoing, PHMSA amends 49 CFR part 192 as follows:

PART 192—TRANSPORTATION OF NATURAL AND OTHER GAS BY PIPELINE: MINIMUM FEDERAL SAFETY STANDARDS

1. The authority citation for 49 CFR part 192 continues to read as follows

Authority: 30 U.S.C. 185(w)(3), 49 U.S.C. 5103, 60101 et seq., and 49 CFR 1.97.

2. Revise the introductory text of § 192.624(a)(1) to read as follows:

§ 192.624 Maximum allowable operating pressure reconfirmation: Onshore steel transmission pipelines.

(a) * * *

(1) Records necessary to establish the MAOP in accordance with § 192.619(a)(2), including records required by § 192.517(a) for testing conducted pursuant to subpart J of this part, are not traceable, verifiable, and complete and the pipeline is located in one of the following locations:

* * * * *

Issued in Washington, DC, on June 26, 2025, under the authority delegated in 49 CFR 1.97.
Benjamin D. Kochman,
Acting Administrator.

[FR Doc. 2025-12115 Filed 6-27-25; 4:15 pm]

BILLING CODE 4910-60-P